DEPARTMENT OF COMMERCE

Economic Development Administration

Membership of the Economic Development Administration Performance Review Board

AGENCY: Economic Development Administration, Department of Commerce.

ACTION: Notice of membership on the Economic Development Administration's Performance Review Board Membership.

SUMMARY: In accordance with 5 U.S.C. 4314(c)(4), the Economic Development Administration (EDA), Department of Commerce (DOC), announce the appointment of those individuals who have been selected to serve as members of EDA's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

DATES: The period of appointment for those individuals selected for EDA's Performance Review Board begins on November 13, 2013.

FOR FURTHER INFORMATION CONTACT: Ruthie B. Stewart, U.S. Department of Commerce, Office of Human Resources Management, Office of Executive Resources, 14th and Constitution Avenue NW., Room 51010, Washington, DC 20230, at (202) 482-5243.

SUPPLEMENTARY INFORMATION: In accordance with 5 U.S.C. 4314(c)(4), the Economic Development Administration (EDA), Department of Commerce (DOC), announce the appointment of those individuals who have been selected to serve as members of EDA's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

DATES: The period of appointment for those individuals selected for EDA's Performance Review Board begins on November 13, 2013. The name, position title, and type of appointment of each member of EDA's Performance Review Board are set forth below by organization:

1. Department of Commerce, Economic Development Administration (EDA) Jeannette P. Tamayo, Chicago Regional Director, Career SES, serves as Chairperson

2. Department of Commerce, International Trade Administration (ITA) Kenneth J.E. Hyatt, Acting Deputy Under Secretary for International Trade, International Trade (ITA), Political Advisor

3. Department of Commerce, Minority Business Development Agency (MBDA) Edith J. McCloud, Associate Director for Management, Career SES

4. Department of Commerce, Office of the Secretary (OS) Gordon T. Alston, Director, Financial Reporting and Internal Controls, Career SES.

Dated: November 6, 2013.
Debbie Pfaff,
Director, Office of Staffing, Recruitment and Classification, Department of Commerce Human Resources Operations Center.

[FR Doc. 2013-27080 Filed 11-12-13; 8:45 am]

BILLING CODE 3510-25-P